DEPARTMENT OF HEALTH AND HUMAN SERVICES

Administration for Children and Families

[OMB #: 0970-0534]

Submission for Office of Management and Budget Review; American Indian and Alaska Natives Facility Condition, Location, and Ownership Survey

AGENCY: Office of Head Start, Administration for Children and Families, U.S. Department of Health and Human Services.

ACTION: Request for public comments.

SUMMARY: The Office of Head Start (OHS), Administration for Children and Families (ACF), U.S. Department of Health and Human Services, is proposing to collect data for the AIAN Facility Condition, Location, and Ownership Survey. This survey fulfills a statutory requirement and is conducted every 5 years. The previous survey used for this purpose was approved under Office of Management and Budget (OMB) #: 0970-0534; this request will be submitted under the same OMB number.

DATES: Comments due October 27, 2025. OMB must decide about the collection of information between 30 and 60 days after publication of this document in the Federal Register. Therefore, a comment is best assured of having its full effect if OMB receives it within 30 days of publication.

ADDRESSES: The public may view and comment on this information collection request at: https://www.reginfo.gov/public/do/PRAViewICR?ref_nbr=202509-0970-009. You can also obtain copies of the proposed collection of information by emailing infocollection@acf.hhs.gov. Identify all emailed requests by the title of the information collection.

SUPPLEMENTARY INFORMATION:

Description: The AIAN Facility Survey is conducted every 5 years in accordance with section 650(b) of the Head Start Act. The most recent survey was approved under OMB #0970-0534 to fulfill the 2020 statutory requirement. This request will be submitted to OMB under the same number as a reinstatement with changes.

The purpose of the survey is to collect current data on the condition, location, and ownership of facilities used by AIAN Head Start programs. The results inform the 2025 Report to Congress and support ongoing policy, funding, and technical assistance decisions. For the 2025 cycle, updates have been made to reflect lessons learned from the 2020 survey and feedback from OHS staff and partners. Changes include more detailed questions on facility safety (e.g., lead testing, pest control, disaster impact), clearer definitions of facility conditions, and expanded items on funding sources and barriers. These revisions aim to strengthen data quality and ensure the survey captures the full scope of infrastructure challenges and needs across AIAN programs.

Respondents: AIAN Early Head Start and Head Start Preschool grantees.

Annual Burden Estimates

Grant recipients will complete the survey for each facility they operate, which based on current grant recipient information is an average of 3.5 responses per respondent. Data collection is expected to take place following OMB approval over a period of about 6 weeks.

Instrument | Total number of respondents | Total number of responses per respondent | Average burden hours per response | Annual burden hours
AIAN Facility Condition, Location, and Ownership Survey | 155 | 3.5 | 0.17 | 92

(Authority: 42 U.S.C. 9846)

Mary C. Jones,
ACF/OPRE Certifying Officer.

[FR Doc. 2025-18755 Filed 9-25-25; 8:45 am]

BILLING CODE 4184-40-P